DEPARTMENT OF EDUCATION

Teaching American History

AGENCY: Office of Innovation and Improvement, Department of Education.

ACTION: Notice of proposed selection criteria and other application requirements.

SUMMARY: We propose selection criteria and other application requirements under the Teaching American History (TAH) grant program. We may use these criteria and the application requirements for competitions in fiscal year (FY) 2005 and in later years. We take this action to add selection criteria and to provide more specificity with regard to the range of awards and the number of awards a local educational agency (LEA) may receive in each competition.

DATES: We must receive your comments on or before February 14, 2005.

ADDRESSES: Address all comments about this proposed priority and other application requirements to Alex Stein, U.S. Department of Education, 400 Maryland Avenue, SW., room 4W218, FOB6, Washington, DC 20202-6140. If you prefer to send your comments through the Internet, you may send them to us at the following address: comments@ed.gov.

You must include the term “Teaching American History” in the subject line of your electronic message.

FOR FURTHER INFORMATION CONTACT: Alex Stein. Telephone: (202) 205-9085 or via Internet: Alex.Stein@ed.gov.

If you use a telecommunications devise for the deaf (TDD), you may call the Federal Relay Service (FRS) at 1-800-877-8339.

Individuals with disabilities may obtain this document in an alternative format (e.g. Braille, large print, audiotape, or computer diskette) on request to the contact person listed under FOR FURTHER INFORMATION CONTACT.

SUPPLEMENTARY INFORMATION:

Invitation To Comment

We invite you to submit comments regarding these selection criteria and other application requirements. Also, we invite you to assist us in complying with the specific requirements of Executive Order 12866 and its overall requirement of reducing regulatory burden that might result from these criteria and other application requirements. Please let us know of any further opportunities we should take to reduce potential costs or increase potential benefits while preserving the effective and efficient administration of the program.

During and after the comment period, you may inspect all public comments about these proposed selection criteria and other application requirements in room 4W218, 400 Maryland Avenue, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed selection criteria and other application requirements. If you want to schedule an appointment for this type of aid, please contact the person listed under FOR FURTHER INFORMATION CONTACT.

General Information

We will announce the final selection criteria and other application requirements in a notice in the Federal Register. We will determine the final selection criteria and other application requirements after considering responses to this notice and other information available to the Department. This notice does not preclude us from proposing additional requirements, subject to meeting applicable rulemaking requirements.

Note: This notice does not solicit applications. In any year in which we choose to use these proposed selection criteria and other application requirements, we invite applications through a notice in the Federal Register.

Discussion of Proposed Selection Criteria

Background

In the past, the selection criteria for the TAH program were taken directly from the program statute and the Education Department General Administrative Regulations (EDGAR). Our experience with competitions, peer reviewers, applicants, and funded grantees demonstrates the need to develop selection criteria that more adequately reflect the qualities of successful TAH grantees. These proposed selection criteria would, therefore, provide the applicant with more detail and clarity with regard to the information that is most likely to result in a high-quality application. Through the selection criteria, we are encouraging applicants to describe: (1) The specific history content to be taught under the grant; (2) how the professional development provided by the grant will improve the quality of instruction; (3) how the evaluation will be aligned with the project design; and (4) the importance of the outcomes likely to be attained through the grant. We also encourage applicants to explain their rationale for selecting certain partners so that the reviewers will have a greater understanding of the potential role and contribution of the partner(s) in achieving the objectives of the grant.

We also encourage applicants to ensure that grant activities will focus on building capacity in the LEA receiving the award. Teachers in the LEA receiving the grant should be the primary recipients of the grant services, and the LEA should be actively involved in the administration of the grant.

We are proposing the additional criteria so that, along with providing a description of the goals and objectives of the application, applicants will describe clear and specific means by which they will achieve those goals and objectives.

Proposed Selection Criteria

The Secretary proposes to use the following selection criteria to evaluate applications under this program. The maximum score for all of these criteria is 100 points. In any given year we will announce the maximum possible score for each criterion, either in the application notice published in the Federal Register or in the application package.

(1) Project quality. The Secretary considers the quality of the proposed project by considering—

(a) The likelihood that the proposed project will develop, implement, and strengthen programs to teach traditional American history as a separate academic subject (not as a component of social studies) within elementary school and secondary school curricula, including the implementation of activities:

(i) To provide professional development and teacher education activities with respect to traditional American history; and

(ii) To improve the quality of instruction in traditional American history.

(b) How specific traditional American history content will be covered by the grant (including the significant issues, episodes, and turning points in the history of the United States; how the words and deeds of individual Americans have determined the course of our Nation; and how the principles of freedom and democracy articulated in the founding documents of this nation have shaped America's struggles and achievements and its social, political, and legal institutions and relations); the format in which the project will deliver the history content; and the quality of the staff and consultants responsible for delivering these content-based professional development activities. The applicant may also attach curriculum vitae for individuals who will provide the content training to the teachers.

(c) How teachers will use the knowledge acquired from project activities to improve the quality of instruction. This description may include plans for reviewing how teachers' lesson planning and classroom teaching are affected by their participation in project activities.

(d) How well the applicant describes a plan that meets the statutory requirement to carry out activities under the grant in partnership with one or more of the following:

(i) An institution of higher education.

(ii) A nonprofit history or humanities organization.

(iii) A library or museum.

(e) The applicant's rationale for selecting the partners and its description of specific activities that the partner(s) will contribute to the grant during each year of the project. The applicant should include a memorandum of understanding or detailed letters of commitment from the partner(s) in an appendix to the application narrative.

(2) Significance. The Secretary considers the significance of the proposed project. In determining the significance of the project, the Secretary considers—

(a) The extent to which the proposed project is likely to build the local capacity, and locally implement services, to improve or expand the LEA's ability to provide American history teachers professional development in traditional American history subject content and content-related teaching strategies.

(b) The importance or magnitude of the results or outcomes likely to be attained by the proposed project, especially improvements in teaching and student achievement.

Note: In meeting this criterion, the Secretary encourages the applicant to include background and statistical information to explain the project's significance. For example, the applicant could include information on: The extent to which teachers in the LEA are not certified in history or social studies; student achievement data in American history; and rates of student participation in courses such as Advanced Placement American History.

(3) Quality of the management plan. The Secretary considers the quality of the management plan for the proposed project. In determining the quality of the management plan for the proposed project, the Secretary considers the following factors:

(a) The adequacy of the management plan to achieve the objectives of the proposed project on time and within budget, including clearly defined responsibilities, timelines, and milestones for accomplishing project tasks.

(b) The extent to which the time commitments of the project director and other key project personnel are appropriate and adequate to meet the objectives of the proposed project.

(4) Quality of the project evaluation. The Secretary considers the quality of the evaluation to be conducted of the proposed project. In determining the quality of the evaluation, the Secretary considers:

(a) The extent to which the methods of evaluation include the use of objective performance measures that are clearly related to the intended outcomes of the project and will produce quantitative and qualitative data to the extent possible.

(b) How well the evaluation plans are aligned with the project design explained under the Project Quality criterion.

(c) Whether the evaluation includes benchmarks to monitor progress toward specific project objectives, and outcome measures to assess the impact on teaching and learning or other important outcomes for project participants.

(d) Whether the applicant identifies the individual and/or organization that has agreed to serve as evaluator for the project and includes a description of the qualifications of that evaluator.

(e) The extent to which the applicant indicates the following:

(i) What types of data will be collected;

(ii) When various types of data will be collected;

(iii) What methods will be used to collect data;

(iv) What data collection instruments will be developed;

(v) How the data will be analyzed;

(vi) When reports of results and outcomes will be available;

(vii) How the applicant will use the information collected through the evaluation to monitor the progress of the funded project and to provide accountability information about both success at the initial site and effective strategies for replication in other settings; and

(viii) How the applicant will devote an appropriate level of resources to project evaluation.

Discussion of Proposed Funding of Projects

Background

The TAH program currently awards $350,000-$1,000,000 total funding for a project period for LEAs with enrollments of fewer than 300,000 students; and $500,000-$2,000,000 for LEAs with enrollments above 300,000. The proposed requirements would permit a maximum of $500,000 for LEAs with enrollments of fewer than 20,000 students; $350,000-$1,000,000 for LEAs with enrollments of 20,000-300,000 students; and $500,000-$2,000,000 for LEAs with enrollments above 300,000 students. As revised, the award amounts would be more proportionate to the number of teachers likely to be served and the number of students enrolled by the LEA.

Currently there is no limit on the number of grants that may be awarded per LEA. The proposed requirements would permit only one award per LEA per competition. This will enable more LEAs to participate in this program.

Proposed Funding

(1) Total funding for a three-year project period is a maximum or $500,000 for LEAs with enrollments of fewer than 20,000 students; $350,000-$1,000,000 for LEAs with enrollments of 20,000-300,000 students; and $500,000-$2,000,000 for LEAs with enrollments above 300,000 students.

(2) A maximum of one grant will be awarded per LEA per competition.

Executive Order 12866

This notice of proposed selection criteria and other application requirements has been reviewed in accordance with Executive Order 12866. Under the terms of the order, we have assessed the potential costs and benefits of this regulatory action.

The potential costs associated with the notice of proposed selection criteria and other application requirements are those resulting from statutory requirements and those we have determined as necessary for administering this program effectively and efficiently.

In assessing the potential costs and benefits—both quantitative and qualitative—of this notice of proposed selection criteria and other application requirements, we have determined that the benefits of the proposed selection criteria and other application requirements justify the costs.

We have also determined that this regulatory action does not unduly interfere with State, local, and tribal governments in the exercise of their governmental functions.

Summary of potential costs and benefits: The potential cost associated with these proposed selection criteria and other application requirements is minimal while the benefits are significant. Grantees may anticipate costs with completing the application process in terms of staff and partner time, copying, and mailing or delivery. The use of E-Application technology reduces mailing and copying costs significantly.

The benefit of the proposed selection criteria is that they will help applicants prepare higher-quality and more comprehensive proposals.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about PDF, call the U.S. Government Printing Office (GPO), toll free, at 1-888-293-6498; or in the Washington, DC, area, at (202) 512-1530.

Note: The official version of this document is the document published in the Federal Register. Free Internet access to the official edition of the Federal Register and the Code of Federal Regulations is available on GPO Access at: http://www.gpoaccess.gov/nara/index.html.

Program Authority: 20 U.S.C. 6721-6722.

(Catalog of Federal Domestic Assistance Number 84.215X)
Dated: January 11, 2005.
Nina Shokraii Rees,
Assistant Deputy Secretary for Innovation and Improvement.

[FR Doc. E5-145 Filed 1-13-05; 8:45 am]

BILLING CODE 4000-01-P